DEPARTMENT OF AGRICULTURE

Forest Service

Submission for OMB Review; Comment Request

May 2, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques and other forms of information technology.

Comments regarding this information collection received by June 6, 2016 will be considered. Written comments should be addressed to: Desk Officer for Agriculture, Office of Information and Regulatory Affairs, Office of Management and Budget (OMB), New Executive Office Building, 725 17th Street NW., Washington, DC 20503. Commentors are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Recreation Fee and Wilderness Program Administration.

OMB Control Number: 0596-0106.

Summary of Collection: The Federal Lands Recreation and Enhancement Act (16 U.S.C. 6801-6814) authorizes the Forest Service (FS) to collect recreation fees for use of government facilities and services. The Organic Administration Act (16 U.S.C. 473), the Wilderness Act (16 U.S.C. 1131), and Wild and Scenic Rivers Act (16 U.S.C. 1271) authorize FS to collect information from National Forest System visitors who are asked to describe the location of their visit and estimated duration of stay. Every year millions of people visit National Forest System recreations sites. At some of these sites, the public is required to pay a fee to use the site. Fees are charged to help cover the costs of operating and maintaining fee sites, areas, and facilities such as campgrounds. FS will collect information from the forms to document when visitors pay a required recreation fee and to schedule requests for use and occupancy of government owned facilities.

Need and use of the Information: Forms used to collection information and fees from visitors: (1) The Recreation Fee Permit Envelope (FS 2300-26 and 26a); (2) Permit for Short-Term, Non-commercial Use of Government-Owned Cabins and Lookouts (FS 2300-43); (3) Visitor Permit (FS-2300-30); (4) Visitor Registration Card (FS-2300-32); (5) National Recreation Application (FS-2300-47) and (6) National Recreation Permit (FS-2300-48). Personal information includes, but not limited to, names, addresses, telephone number, length of stay, amount paid, requested dates of occupancy, party size and vehicle registration are collected. If this information and fees was not collected FS could not monitor visitation rates in special management areas to prevent overuse and site deterioration in environmentally sensitive areas.

Description of Respondents: Individuals or households.

Number of Respondents: 2,228,000.

Frequency of Responses: Reporting: Other (per visit).

Total Burden Hours: 119,000.

Charlene Parker,
Departmental Information Collection Clearance Officer.

[FR Doc. 2016-10722 Filed 5-5-16; 8:45 am]

BILLING CODE 3411-15-P